DEPARTMENT OF THE TREASURY

Comptroller of the Currency

12 CFR Part 23

Leasing

CFR Correction

In Title 12 of the Code of Federal Regulations, parts 1 to 199, revised as of January 1, 2014, on page 466, in § 23.6, remove the phrase “and Regulation W, 12 CFR part 223” from the third sentence and add it to the end of the first sentence. Also, on the same page, in the same section, remove the quotation mark and the word “before” from the third sentence.

[FR Doc. 2014-15111 Filed 6-26-14; 8:45 am]

BILLING CODE 1505-01-P